DEPARTMENT OF THE INTERIOR

National Park Service

Notice of Meeting of Concessions Management Advisory Board

AGENCY: National Park Service, Interior.

ACTION: Notice of meeting of Concessions Management Advisory Board.

SUMMARY: In accordance with the Federal Advisory Committee Act (Pub. L. 92-463, 86 Stat. 770, 5 U.S.C. App 1, Section 10), notice is hereby given that the Concessions Management Advisory Board (the Board) will hold its 19th meeting October 15-16, 2008, at the Water Safety Center, Lake Mead National Recreation Area, Boulder City, Nevada. The meeting will convene Wednesday, October 15 at 9 a.m. and will conclude at 5 p.m. The meeting will reconvene Thursday, October 16 at 9 a.m. and will conclude before 4 p.m.

ADDRESSES: The meeting will be held in the Mead Room of the Water Safety Center, Lake Mead National Recreation Area, Boulder City, Nevada 89005. Park phone number: 702-293-8906.

SUPPLEMENTARY INFORMATION: The Board was established by Title IV, Section 409 of the National Parks Onmibus Management Act of 1998, November 13, 1998 (Pub. L. 105-391). The purpose of the Board is to advise the Secretary and the National Park Service (NPS) on matters relating to management of concessions in the National Park System.

The Board will meet at 9 a.m. Wednesday, October 15th and 9 a.m. on Thursday, October 16th for the regular business meeting and continued discussion on the following subjects:

• Concession Contracting Status Update and Regional Reports

• NPS Prospectus Evaluation Review Process

• Cooperating Association Steering Committee Status Report

• NPS Initiatives —

• Centennial Initiative Update

• National Park Service Tourism Policy Update

• Geo-Tourism Memorandum of Understanding

• VolunTourism Initiative

• Gasoline and Diesel Fuel Costs Issues

• Proposed Leasehold Surrender Interest Regulations Update

• Commercial Use Authorizations Regulations Update

• Superintendents Concession Management Training Update

• DO 35B: Utility Rates

• Carbon Monoxide Safety

• Buy American Committee Report

• National Park Hospitality Association Presentations

• Other business

The meeting will be open to the public, however, facilities and space for accommodating members of the public are limited, and persons will be accommodated on a first-come-first served basis.

Assistance to Individuals With Disabilities at the Public Meeting

The meeting site is accessible to individuals with disabilities. If you plan to attend and will require an auxiliary aid or service to participate in the meeting (e.g., interpreting service, assistive listening device, or materials in an alternate format), notify the contact person listed in this notice at least 2 weeks before the scheduled meeting date. Attempts will be made to meet any request(s) we receive after that date, however, we may not be able to make the requested auxiliary aid or service available because of insufficient time to arrange for it.

Anyone may file with the Board a written statement concerning matters to be discussed. The Board may also permit attendees to address the Board, but may restrict the length of the presentations, as necessary to allow the Board to complete its agenda within the allotted time. Such requests should be made to the Director, National Park Service, Attention: Manager, Concession Program, at least 7 days prior to the meeting. Draft minutes of the meeting will be available for public inspection approximately 6 weeks after the meeting, at the Concession Program office located at 1201 Eye Street, NW., 11th Floor, Washington, DC.

FOR FURTHER INFORMATION CONTACT: National Park Service, Concession Program, 1201 Eye Street, NW., Washington, DC 20240, Telephone: 202/513-7151.

Dated: September 3, 2008.
Sue Masica,
Chief of Staff, National Park Service.

[FR Doc. E8-21277 Filed 9-12-08; 8:45 am]

BILLING CODE 4312-53-M